DEPARTMENT OF TRANSPORTATION

Surface Transportation Board

[STB Finance Docket No. 33889]

State of Texas (Acting by and Through the Texas Department of Transportation)—Acquisition Exemption—West Texas & Lubbock Railroad Company, Inc.

The State of Texas (acting by and through the Texas Department of Transportation), a noncarrier, has filed a verified notice of exemption under 49 CFR 1150.31 to acquire the right-of-way underlying a rail line (the line) from West Texas & Lubbock Railroad Company, Inc. (WTLR). The line is located between milepost 7.2 and milepost 1.1, in Lubbock, TX, a distance of approximately 6.1 miles.¹

¹ The State of Texas will not provide rail freight service on the line. WTLR will retain ownership of the rail, ties and other track materials and will retain the permanent, irrevocable, exclusive rail freight easement to provide service over the line.

The transaction was scheduled to be consummated on or shortly after June 27, 2000.²

² The transaction could be consummated no sooner than the June 23, 2000 effective date of the exemption.

If the notice contains false or misleading information, the exemption is void ab initio.³ Petitions to reopen the proceeding to revoke the exemption under 49 U.S.C. 10502(d) may be filed at any time. The filing of a petition to revoke will not automatically stay the transaction.

³ According to the State of Texas, a motion to dismiss will be filed in the near future in this proceeding on the grounds that the Board does not have jurisdiction over this transaction.

An original and 10 copies of all pleadings, referring to STB Finance Docket No. 33889, must be filed with the Surface Transportation Board, Office of the Secretary, Case Control Unit, 1925 K Street, NW., Washington, DC 20423-0001. In addition, a copy of each pleading must be served on Charles W. Heald, Executive Director, Texas Department of Transportation, 125 E. 11th Street, Austin, TX 78701-2483.

Board decisions and notices are available on our website at “WWW.STB.DOT.GOV.”

Decided: June 27, 2000.
By the Board, David M. Konschnik, Director, Office of Proceedings.
Vernon A. Williams,
Secretary.

[FR Doc. 00-16856 Filed 7-03-00; 8:45 am]

BILLING CODE 4915-00-M